FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 8, 2013.

A. Federal Reserve Bank of Minneapolis (Jacqueline G. King, Community Affairs Officer) 90 Hennepin Avenue, Minneapolis, Minnesota 55480-0291:

1. Charlotte Aldinger and Jeri Haberstroh, both of Mott, North Dakota, as trustees/administrators, to retain voting shares of the Commercial Bank of Mott Employee Stock Ownership Plan, and thereby indirectly retain voting shares of Commercial Bank of Mott, both in Mott, North Dakota.

2. Gale M. Hoese, individually, and with Todd Hoese, Waconia, Minnesota, David Hoese, Jeremy Hoese, Tamara Hoese, Jon Hoese, Chad Hoese, all of Glencoe, Minnesota, David Schornack, and Denise Schornack, both of Perham, Minnesota, as a group acting in concert, to acquire voting shares of Flagship Financial Group, Inc., Eden Prairie, Minnesota, and thereby indirectly acquire voting shares of Flagship Bank Minnesota, Wayzata, Minnesota.

Board of Governors of the Federal Reserve System, June 18, 2013.
Margaret McCloskey Shanks,
Deputy Secretary of the Board.

[FR Doc. 2013-14845 Filed 6-20-13; 8:45 am]

BILLING CODE 6210-01-P